DEPARTMENT OF TRANSPORTATION

National Highway Traffic Safety Administration

[U.S. DOT Docket Number NHTSA-2010-0124]

Reports, Forms, and Recordkeeping Requirements

AGENCY: National Highway Traffic Safety Administration (NHTSA), Department of Transportation.

ACTION: Request for public comment on proposed collection of information, amendment.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. On September 3, 2010, NHTSA published a request for comment on one collection of information for which it intends to seek OMB approval (75 FR 54217). This notice elaborates on some specific areas NHTSA is requesting comment on that were not mentioned in the original notice.

DATES: Comments must be received on or before November 2, 2010.

ADDRESSES: You may submit comments, identified by the docket number in the heading of this document, by any of the following methods:

• Federal eRulemaking Portal: Go to http://www.regulations.gov. Follow the instructions for submitting comments on the electronic docket site by clicking on “Help” or “FAQ.”

• Hand Delivery: 1200 New Jersey Avenue, SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Kil-Jae Hong, NHTSA, 1200 New Jersey Avenue, SE., W52-232, NPO-520, Washington, DC 20590. Ms. Hong's telephone number is (202) 493-0524.

SUPPLEMENTARY INFORMATION: On September 3, 2010, NHTSA published a request for comment on one collection of information for which it intends to seek OMB approval (75 FR 54217). That notice explained that to further NHTSA's development of a national tire fuel efficiency consumer information program required under the Energy Independence and Security Act of 2007,¹ NHTSA is proposing a multi-phased consumer research project and is currently requesting comment on the first phase of that research, which will consist of qualitative focus group market research. This notice elaborates on some specific areas NHTSA is requesting comment on that were not mentioned in the original notice. These areas are focus group location, testing for the impact of basing a tire fuel efficiency rating on rolling resistance coefficient (RRC) vs. rolling resistance force (RRF), and testing for the recognition of existing labeling.

¹ Public Law 110-140, 121 Stat. 1492 (Dec. 18, 2007).

NHTSA notes that comments have already been sought on and a public meeting has already been held on a draft research plan for the consumer research that is the subject of this collection of information.² The relevance and poignancy of stakeholders' comments may be enhanced by reviewing that draft research plan and comments received in response to the draft research plan and public meeting.

² See Docket No. NHTSA-2010-0018.

With regard to focus group location, the notice indicated that NHTSA intended to conduct two (2) focus groups in three (3) cities. NHTSA plans to conduct the focus groups in one city each in the Northeast, South or Midwest, and the West to achieve geographic diversity. NHTSA is particularly interested in comments regarding whether or not the western location should be in California.

In 2003, the California legislature adopted Assembly Bill No. 844 (AB 844), which required the California Energy Commission to develop a comprehensive fuel efficient tire program. In 2009, a draft regulation was made public which specified testing and reporting requirements for manufacturers, described the database of fuel efficiency of replacement tires sold in California, and defined a “fuel efficient tire.” As a result of these regulations, if California is included, NHTSA wonders whether the results might differ from other locations because those consumers might be more exposed to the issues of fuel efficiency and tires than other consumers, which would offer potential insight into comprehension of tire information while possibly conveying consumer understanding that is unique to consumers that have been exposed to advanced information as compared to the general population. NHTSA seeks comments on whether focus groups results from California may not be generally applicable to a national population of replacement tire consumers. On the other hand, if the results were similar to other locations, that might indicate the difficulty in raising awareness of this type of information.

With regard to RRC vs. RRF,³ in the March 30, 2010 final rule NHTSA stated that it was deferring the decision on which measurement metric was the appropriate metric to base the fuel efficiency rating upon (75 FR 15894, 15919). Previous comments received by the agency were split between those who supported basing a fuel efficiency rating on RRF because it directly relates to the amount of fuel consumed, and those who supported basing a fuel efficiency rating on RRC because ratings based on RRF would tend to cluster small tires around high ratings and larger tires around low ratings. These commenters argued that basing a fuel efficiency rating on RRC would spread out ratings for tires available to a single consumer so that the consumer would be able to get a top-rated tire, and that denying consumers the ability to purchase a top-rated tire would discourage consumers. NHTSA believes that a rating based on RRC could only be used to compare tires of the same size and load rating. Therefore, from the standpoint of consumer perception, the agency's main concern is that if a consumer is looking at fuel efficiency ratings across a range of different-sized tires, e.g., if the consumer has one family vehicle that requires 18-inch replacement tires and another family vehicle that requires 15-inch replacement tires, fuel efficiency ratings based on RRC would not accurately reflect the contribution of a tire to fuel consumption since RRCs for larger tires (with greater test loads) can be lower than those of smaller tires, i.e., they would get a higher fuel efficiency rating than a small tire in a rating system based on RRC. To assist in a decision on this issue, NHTSA intends to explore how often consumers consider different size tires in their purchase decisions, and what the perceptual implications are if a consumer cannot find a top-rated tire among the replacement tire choices that are available for their vehicle. NHTSA requests comment on whether there is other information NHTSA could explore with regard to this issue.

³ RRF is the rolling resistance force measurement measured by a rolling resistance test procedure. RRC is RRF divided by the test load of the tire, where most test procedures specify test load as a percentage of the maximum load rating of the tire being tested. In a June 2009 notice of proposed rulemaking, NHTSA proposed to base the fuel efficiency rating on the RRF metric because such a rating translates more directly to the fuel required to move a tire. See 74 FR 29542 (June 22, 2009).

Finally, NHTSA is requesting information on any labeling or other information that is currently voluntarily provided by tire manufacturers or tire retailers, on tires or otherwise. NHTSA intends to explore what information participants have seen, and how they recall, interpret, and apply it. This will assist the agency in evaluating how well the participants comprehend the information, which types of information are meaningful to their purchasing choices, and which information impacts their behavior.

Issued on: September 21, 2010.
Rebecca Pennington,
Associate Administrator, Planning, Administrative and Financial Management.

[FR Doc. 2010-24115 Filed 9-24-10; 8:45 am]

BILLING CODE 4910-59-P